NATIONAL AERONAUTICS AND SPACE ADMINISTRATION

[Notice: 13-144]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Frances Teel, Mail Code JF000, National Aeronautics and Space Administration, Washington, DC 20546-0001.

FOR FURTHER INFORMATION CONTACT: Requests for additional information or copies of the information collection instrument(s) and instructions should be directed to Frances Teel, NASA PRA Clearance Officer, NASA Headquarters, 300 E Street SW., Mail Code JF000, Washington, DC 20546, Frances.C.Teel@nasa.gov.

SUPPLEMENTARY INFORMATION:

I. Abstract

NASA's founding legislation, the Space Act of 1958, as amended, directs the Agency to expand human knowledge of Earth and space phenomena and to preserve the role of the United States as a leader in aeronautics, space science, and technology. The NASA Office of Education has three primary goals (1) strengthen NASA and the Nation's future workforce, (2) attract and retain students in science, technology, engineering and mathematics, or STEM, disciplines, and (3) engage Americans in NASA's mission. This regular clearance will enable the NASA Office of Education to fulfill federally mandated reporting on its education activities and investments portfolio as well as selected Agency annual performance indicators.

This information collection will consist of project activity-level data submitted by program managers external to NASA, but who are responsible for reporting to NASA on the programs they manage that are within the NASA investments portfolio. Pertinent examples of this data include number of participants, duration of activity, and institution location of the activity.

II. Method of Collection

Electronic and paper.

III. Data

Title: NASA Office of Education Program-level Data Collection.

OMB Number: 2700-XXXX.

Type of Review: Regular Clearance.

Affected Public: Individuals.

Estimated Number of Respondents: 844.

Estimated Annual Responses: 3,376.

Estimated Time per Response: 60 min.

Estimated Total Annual Burden Hours: 3,376.

Estimated Total Annual Cost: $84,704.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Frances Teel,
NASA PRA Clearance Officer.

[FR Doc. 2013-29391 Filed 12-9-13; 8:45 am]

BILLING CODE 7510-13-P